DEPARTMENT OF COMMERCE

International Trade Administration

North American Free Trade Agreement (NAFTA), Article 1904; Binational Panel Reviews: Notice of Completion of Panel Review

AGENCY: United States Section, NAFTA Secretariat, International Trade Administration, Department of Commerce.

ACTION: Notice of Completion of Panel Review in the matter of Certain Uncoated Groundwood Paper From Canada: Final Affirmative Countervailing Duty Determination (Secretariat File Number: USA-CDA-2018-1904-06).

SUMMARY: The U.S. Section of the NAFTA Secretariat has received motions filed on behalf of the Government of Canada; the U.S. Department of Commerce; North Pacific Paper Company (“NORPAC”); the Government of Alberta; the Government of British Columbia; the Government of Newfoundland and Labrador; the Government of Ontario; the Government of Quebec; Alberta Newsprint Company; Catalyst Paper Corporation, Catalyst Pulp and Paper Sales Inc. and Catalyst Paper (USA) Inc.; Gannett Supply Corporation; Kruger TroisRivieres L.P., Corner Brook Pulp and Paper Limited, Kruger Publication Papers Inc. and Kruger Brampton L.P.; Resolute FP Canada Inc. and Resolute FP US Inc.; and Rayonier A.M. Canada (successor to Tembec Inc.) requesting the termination of panel review in the matter of Certain Uncoated Groundwood Paper From Canada: Final Affirmative Countervailing Duty Determination (Groundwood Paper CVD) NAFTA dispute.

Given all the participants have filed motions requesting termination and pursuant to Rule 71(2) of the NAFTA Rules of Procedure for Article 1904 Binational Panel Reviews (Rules), the NAFTA Groundwood Paper CVD dispute has been terminated.

As a result, and in accordance with Rule 78(a), notice is hereby given that panel review of the NAFTA Groundwood Paper CVD dispute has been completed effective November 30, 2018.

FOR FURTHER INFORMATION CONTACT: Paul E. Morris, United States Secretary, NAFTA Secretariat, Room 2061, 1401 Constitution Avenue NW, Washington, DC 20230, (202) 482-5438.

SUPPLEMENTARY INFORMATION: Chapter 19 of Article 1904 of NAFTA provides a dispute settlement mechanism involving trade remedy determinations issued by the government of the United States, the government of Canada, and the government of Mexico. There are established Rules, which were adopted by the three governments and require Notices of Completion of Panel Review to be published in accordance with Rule 78. For the complete Rules, please see https://www.nafta-sec-alena.org/Home/Texts-of-the-Agreement/Rules-of-Procedure/Article-1904.

Dated: January 29, 2019.
Paul E. Morris,
U.S. Secretary, NAFTA Secretariat.

[FR Doc. 2019-00775 Filed 1-31-19; 8:45 am]

BILLING CODE 3510-GT-P